DEPARTMENT OF COMMERCE

Bureau of Industry and Security

Emerging Technology and Research Advisory Committee; Notice of Open Meeting

The Emerging Technology and Research Advisory Committee (ETRAC) will meet on July 20, 2012, 8:30 a.m., Room 3884, at the Herbert C. Hoover Building, 14th Street between Pennsylvania and Constitution Avenues, NW., Washington, DC The Committee advises the Office of the Assistant Secretary for Export Administration on emerging technology and research activities, including those related to deemed exports.

Agenda

Friday, July 20

Open Session

9-9:45 a.m. Export Control Update—Messrs. Wolf, Borman and Kritzer-Bureau of Industry and Security.

9:45-10:30 a.m. Dual-Use Research of Concern—Dr. Tierney.

10:45-11:45 a.m. President's Export Control Subcommittee on Export Administration Briefing—Mr. Breaux.

11:45-12 p.m. Public Comments

1 p.m.-2 p.m. Encryption- Emerging Technologies & Implications for the Research Community—Dr. Tierney.

2-3:30 p.m. General Discussion & Public Comments.

3:30 p.m. Adjourn.

The open session will be accessible via teleconference to 20 participants on a first come, first serve basis. To the conference, submit inquiries to Ms. Yvette Springer at Yvette.Springer@bis.doc.gov, no later than July 12, 2012.

A limited number of seats will be available for the public session. Reservations are not accepted. To the extent that time permits, members of the public may present oral statements to the Committee. The public may submit written statements at any time before or after the meeting. However, to facilitate the distribution of public presentation materials to the Committee members, the Committee suggests that presenters forward the public presentation materials prior to the meeting to Ms. Springer via email.

For more information, call Yvette Springer at (202) 482-2813.

Dated: June 27, 2012.
Teresa Telesco,
Assistant Committee Liaison Officer.

[FR Doc. 2012-16197 Filed 6-29-12; 8:45 am]

BILLING CODE 3510-JT-P